DEPARTMENT OF EDUCATION

Notice Reopening the Application Period; Applications for Funding under Higher Education Emergency Relief Fund (HEERF), Sections 18004(a)(1), 18004(a)(2), and 18004(a)(3); Coronavirus Aid, Relief, and Economic Security (CARES) Act

AGENCY: Office of Postsecondary Education, Department of Education.

ACTION: Notice.

SUMMARY: The Secretary is reopening the application period for institutions of higher education (IHEs) intending to apply for HEERF, CARES Act funds. The Secretary takes this action to allow eligible applicants additional time to submit their Certifications and Agreements (applications), and associated data submissions for approved information collections under OMB control numbers 1801-0005, 1840-0842, and 1840-0843.

DATES: The application period for the notice published at 85 FR 37923 on June 24, 2020, is reopened. Deadline for Transmittal of Applications: September 30, 2020.

FOR FURTHER INFORMATION CONTACT: Beatriz Ceja, U.S. Department of Education, 400 Maryland Avenue SW, Room 260-04, Washington, DC 20202. Telephone: The Department of Education HEERF Call Center at (202) 377-3711 or by email at HEERF@ed.gov. Please also visit our HEERF website here: https://www2.ed.gov/about/offices/list/ope/caresact.html.

If you use a telecommunications device for the deaf (TDD) or a text telephone (TTY), call the Federal Relay Service (FRS), toll free, at 1-800-877-8339.

SUPPLEMENTARY INFORMATION: On June 24, 2020, we published in the Federal Register a notice establishing an August 1, 2020 deadline date for IHEs that did not initially apply to receive allocations to transmit their Certification and Agreements (applications) for funds from the HEERF under sections 18004(a)(1), 18004(a)(2), and 18004(a)(3) of the CARES Act (85 FR 37923) (June 24, 2020 notice).

The June 24, 2020 notice applied to applications under the following Catalog of Federal Domestic Assistance (CFDA) numbers:

• 84.425E—Student Aid portion of section 18004(a)(1).

• 84.425F—Institutional portion of section 18004(a)(1).

• 84.425J—Historically Black College and Universities under section 18004(a)(2).

• 84.425K—Tribally Controlled Colleges and Universities under section 18004(a)(2).

• 84.425L—Minority Serving Institutions under section 18004(a)(2).

• 84.425M—Strengthening Institutions Program under section 18004(a)(2).

• 84.425N—Fund for the Improvement of Postsecondary Education (FIPSE) under section 18004(a)(3).

This notice reopens the period for transmittal of applications for all eligible applicants until September 30, 2020.

Note: This notice also reopens the period for transmittal of applications until September 30, 2020 for:

• 18004(a)(1) reserve applications for the IHEs that did not initially apply for the (a)(1) reserve funds (https://www2.ed.gov/about/offices/list/ope/reserveappfinal7202020.pdf);

• 18004(a)(2) applications for eligible branch campuses whose main campuses did not receive an award and who did not initially apply for the (a)(2) reserve funds; and

• 18004(a)(3) applications for grantees with identified risk factors that are required to submit Budget and Expenditure Reporting in order to demonstrate their proposed use of funds (https://www2.ed.gov/about/offices/list/ope/budgetandexpenditurereportingsec18004a3.pdf).

Note: This notice does not modify the deadline for the Department's recently-announced Institutional Resilience and Expanded Postsecondary Opportunity (IREPO) competitive grant program under CFDA number 84.425P offered under section 18004(a)(3) of the CARES Act and FIPSE. More information about that program, and application submission timelines, can be found at the IREPO grant competition website: https://www2.ed.gov/about/offices/list/ope/heerfirepo.html.

Note: All information in the Certification and Agreements and in the June 24, 2020 notice establishing a deadline date for each of these funding opportunities remains the same, except for the deadline for the transmittal of applications.

Electronic Submission of Applications:

We are participating as a partner in the Government-wide Grants.gov site. Submit applications electronically using Grants.gov and do not email them unless explicitly allowed.

A Grants.gov applicant must apply online using Workspace, a shared environment where members of a grant team may simultaneously access and edit different web forms within an application. An applicant can create an individual Workspace for each application and establish for that application a collaborative application package that allows more than one person in the applicant's organization to work concurrently on an application. The Grants.gov system also enables the applicant to reuse forms from previous submissions, check them in and out to complete them, and submit the application package. For access to further instructions on how to apply using Grants.gov, refer to: www.grants.gov/web/grants/applicants/apply-for-grants.html.

You may access the electronic grant applications at www.Grants.gov. You must search for the downloadable application package for this program by the CFDA number. Do not include the CFDA number's alpha suffix in your search (e.g., search for 84.184, not 84.184D).

Please note the following:

Applicants needing assistance with Grants.gov may contact the Grants.gov Support Center either by calling 1-800-518-4726 or by sending an email to support@grants.gov. The Grants.gov Support Center is available 24 hours a day, seven days a week, except for Federal holidays. Applicants needing assistance from Principal Office staff with their applications should contact the Department as directed under FOR FURTHER INFORMATION CONTACT section specified in this notice during normal business hours and no later than 5:00 p.m., Eastern Time, on the application deadline date.

The amount of time it can take to upload an application will vary depending on a variety of factors, including the size of the application and the speed of your internet connection. Therefore, we recommend that you leave yourself plenty of time to complete your submission.

Applications received by Grants.gov are date- and time-stamped upon submission. Your application must be fully uploaded and submitted and must be date- and time-stamped by the Grants.gov system no later than 11:59:59 p.m., Eastern Time, on September 30, 2020. Except as specified in the Department's Common Instructions for Applicants to Department of Education Discretionary Grant Programs, published in the Federal Register on February 13, 2019 (84 FR 3768) and available at https://www.federalregister.gov/d/2019-02206, we will not accept your application if it is received—that is, date- and time-stamped by the Grants.gov system—after 11:59:59 p.m., Eastern Time, on the application deadline date. We do not consider an application that does not comply with the deadline requirements. When we retrieve your application from Grants.gov, we will notify you if we are rejecting your application because it was late. Receipt of a date- and time-stamp does not mean that your application meets program eligibility requirements described in the application package.

You can find the Education Submission Procedures pertaining to Grants.gov under News and Events on the Department's G5 system home page at www.G5.gov. In addition, for specific guidance and procedures for submitting an application through Grants.gov, please refer to the Grants.gov website at: www.grants.gov/web/grants/applicants/apply-for-grants.html.

After you electronically submit your application, you will receive from Grants.gov an automatic notification of receipt that contains a Grants.gov tracking number. Grants.gov also will notify you automatically by email if your application met all of the Grants.gov validation requirements or if there were any errors (such as submission of your application by someone other than a registered Authorized Organization Representative (AOR), issues with your Data Universal Numbering System (DUNS) number, or inclusion of an attachment with a file name that contains special characters). You will be given an opportunity to correct any errors and resubmit, but you must still meet the deadline for submission of your application.

Once your application is successfully validated by Grants.gov, the Department will retrieve your application from Grants.gov and send you an email with a unique PR/Award number for your application.

Email confirmations and receipts from Grants.gov do not indicate receipt by the Department, nor do they mean that your application is complete or has met all application requirements. While your application may have been successfully validated by Grants.gov, it also must be reviewed in accordance with the Department's application requirements as specified in the Certification and Agreement and in these application instructions. It is your responsibility to ensure that your submitted application has met all of the Department's requirements. Additionally, we may request that you provide us original signatures on forms at a later date.

Accessible Format: Individuals with disabilities can obtain this document and a copy of the application package in an accessible format (e.g., braille, large print, audiotape, or compact disc) on request to the Department as directed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-19791 Filed 9-3-20; 8:45 am]

BILLING CODE 4000-01-P